DEPARTMENT OF COMMERCE

International Trade Administration

[A-428-602]

Brass Sheet and Strip From Germany: Final Results of Antidumping Duty Administrative Review and Final Determination of No Shipments; 2013-2014

AGENCY: Enforcement and Compliance, International Trade Administration, Department of Commerce.

SUMMARY: In response to a request from Petitioners,¹ the Department of Commerce (the Department) is conducting an administrative review of the antidumping duty order on brass sheet and strip from Germany. The period of review (POR) is March 1, 2013, through February 28, 2014.² The review covers ten producers or exporters of subject merchandise.³ We find that three of the producers or exporters for which the Department initiated a review, Schwermetall, ThyssenKrupp, and Wieland, had no shipments during the POR. Further, we find that subject merchandise has been sold at less than normal value by seven of the companies subject to this review.⁴ Based on our analysis of the comments and information received, these final results remain unchanged from the Preliminary Results.⁵ For the final weighted-average dumping margin, see the “Final Results of Review” section below.

¹ The Petitioners are GBC Metals, LLC of Global Brass and Copper, Inc., dba Olin Brass, Heyco Metals, Inc., Aurubis Buffalo, Inc. PMX Industries, Inc. and Revere Copper Products, Inc.

² See Initiation of Antidumping and Countervailing Duty Administrative Reviews and Request for Revocation in Part, 79 FR 24398 (April 30, 2014) (Initiation).

³ The ten producers or exporters include: Aurubis Stolberg GmbH & Co. KG, Carl Schreiber GmbH, KME Germany AG & Co. KG, Messingwerk Plettenberg Herfeld GmbH & Co. KG (Messingwerk), MKM Mansfelder Kupfer & Messing GmbH, Schlenk Metallfolien GmbH & Co. KG, Schwermetall Halbzeugwerk GmbH & Co. KG (Schwermetall), Sundwiger Messingwerke GmbH & Co. KG, ThyssenKrupp VDM GmbH (ThyssenKrupp), and Wieland-Werke AG (Wieland).

⁴ The seven companies include Aurubis Stolberg GmbH & Co. KG, Carl Schreiber GmbH, KME Germany AG & Co. KG, Messingwerk, MKM Mansfelder Kupfer & Messing GmbH, Schlenk Metallfolien GmbH & Co. KG, and Sundwiger Messingwerke GmbH & Co. KG.

⁵ See Brass Sheet and Strip from Germany: Preliminary Results of Antidumping Duty Administrative Review and Preliminary Determination of No Shipments; 2013-2014, 80 FR 18357 (April 6, 2015) (Preliminary Results), and accompanying “Preliminary Decision Memorandum for the Final Results of the Antidumping Duty Administrative Review: Brass Sheet and Strip from Germany; 2013-2014” from Gary Taverman, Associate Deputy Assistant Secretary for Antidumping and Countervailing Duty Operations, to Paul Piquado, Assistant Secretary for Enforcement and Compliance, dated March 31, 2015 (Preliminary Decision Memorandum). The three producers or exporters which we determine had no shipments are Schwermetall, ThyssenKrupp, and Wieland.

DATES: Effective Date: October 13, 2015.

FOR FURTHER INFORMATION CONTACT: George McMahon or Eric Greynolds, AD/CVD Operations, Office III, Enforcement and Compliance, International Trade Administration, U.S. Department of Commerce, 14th Street and Constitution Avenue NW., Washington, DC 20230; telephone: (202) 482-1167 or (202) 482-6071, respectively.

SUPPLEMENTARY INFORMATION:

Scope of the Order

The merchandise subject to the antidumping duty order is brass sheet and strip, other than leaded brass and tin brass sheet and strip, from Germany, which is currently classified under subheading 7409.21.00.50, 7409.21.00.75, 7409.21.00.90, 7409.29.00.50, 7409.29.00.75, and 7409.29.00.90 of the Harmonized Tariff Schedule of the United States (HTSUS). Although the HTSUS subheadings are provided for convenience and customs purposes, the written description of the merchandise subject to the order is dispositive.⁶

⁶ For a full description of the scope of the order, see the “Issues and Decision Memorandum for the Final Results of the Antidumping Duty Administrative Review: Brass Sheet and Strip from Germany; 2013-2014” from Gary Taverman, Associate Deputy Assistant Secretary for Antidumping and Countervailing Duty Operations, to Paul Piquado, Assistant Secretary for Enforcement and Compliance, dated concurrently with this notice (Issues and Decision Memorandum).

Methodology

In accordance with sections 776(a) and (b) of the Tariff Act of 1930, as amended (the Act), we relied on facts available with an adverse inference with respect to Messingwerk, the sole company selected for individual examination in this review. Thus, we are assigning a rate of 55.60 percent as the dumping margin for Messingwerk.⁷ In making these findings, we relied on facts available because Messingwerk failed to respond to the Department's antidumping duty questionnaire, and thus withheld requested information, failed to provide requested information by the established deadlines, and significantly impeded this proceeding. See sections 776(a)(1) and (2)(A)-(C) of the Act. Furthermore, because we determine that Messingwerk failed to cooperate by not acting to the best of its ability to comply with the Department's requests for information, we drew an adverse inference in selecting from among the facts otherwise available. See section 776(b) of the Act.

⁷ For a full description of the Department's selection of the 55.60 percent adverse facts available dumping margin, see Issues and Decision Memorandum.

Additionally, as indicated in the “Final Results of Review” section below, we determine that a margin of 22.61 percent applies to the six firms not selected for individual review. We have determined to base the dumping margin for the six companies not selected for individual examination in this review on an average of the range of certain dumping margins contained in the underlying Petition.⁸ For further information, see the Preliminary Decision Memorandum ⁹ at the section titled, “Rate for Non-Examined Companies.”

⁸ See Brass Sheet and Strip From The Federal Republic of Germany; Initiation of Antidumping Duty Investigation, 51 FR 11774 (April 7, 1986).

⁹ See the Preliminary Decision Memorandum.

For a full description of the methodology underlying our conclusions, see the Issues and Decision Memorandum. A list of topics included in the Issues and Decision Memorandum is included in the Appendix attached to this notice.

The Issues and Decision Memorandum is a public document and is on file electronically via Enforcement and Compliance's Antidumping and Countervailing Duty Centralized Electronic Service System (ACCESS). ACCESS is available to registered users at http://access.trade.gov and to all parties in the Central Records Unit, Room B8024 of the main Department of Commerce building. In addition, a complete version of the Issues and Decision Memorandum can be accessed directly on the Internet at: http://enforcement.trade.gov/frn/index.html.

Final Determination of No Shipments

Based on our analysis of U.S. Customs and Border Protection (CBP) information and information provided by Schwermetall, ThyssenKrupp, and Wieland, we determine that Schwermetall, ThyssenKrupp, and Wieland had no shipments of the subject merchandise, and, therefore, no reviewable transactions, during the POR. For a full discussion of this determination, see the Issues and Decision Memorandum.

Final Results of Review

As a result of this review, the Department determines that the following dumping margins on brass sheet and strip from Germany exist for the period March 1, 2013, through February 28, 2014:

Producer and/or exporter | Margin (percent)
Aurubis Stolberg GmbH & Co. KG | 22.61
Carl Schreiber GmbH | 22.61
KME Germany AG & Co. KG | 22.61
Messingwerk Plettenberg Herfeld GmbH & Co. KG | 55.60
MKM Mansfelder Kupfer & Messing GmbH | 22.61
Schlenk Metallfolien GmbH & Co. KG | 22.61
Sundwiger Messingwerke GmbH & Co. KG | 22.61

Assessment Rates

Pursuant to section 751(a)(2)(C) of the Act and 19 CFR 351.212(b)(1), the Department determined, and CBP shall assess, antidumping duties on all appropriate entries of subject merchandise, in accordance with the final results of this review. The Department intends to issue assessment instructions to CBP 15 days after the date of publication of these final results of review.

We will instruct CBP to apply an ad valorem assessment rate of 55.60 percent to all entries of subject merchandise during the POR which were produced and/or exported by Messingwerk, and an ad valorem assessment rate of 22.61 percent to all entries of subject merchandise during the POR which were produced and/or exported by the six aforementioned companies which were not selected for individual examination.

Consistent with the Department's “automatic assessment” regulation,¹⁰ for entries of subject merchandise during the POR produced by the above-referenced companies, for which the company did not know that its merchandise was destined for the United States, we will instruct CBP to liquidate these entries at the all-others rate established in the less-than fair-value (LTFV) investigation, 7.30 percent,¹¹ if there is no rate for the intermediary involved in the transaction. See Assessment Policy Notice for a full discussion of this clarification. Further, because “as entered” liquidation instructions do not alleviate the concerns which the Assessment Policy Notice was intended to address, we find it appropriate in this case to instruct CBP to liquidate any existing entries of merchandise produced by Schwermetall, ThyssenKrupp, or Wieland and exported by other parties at the all others rate base on our determination that Schwermetall, ThyssenKrupp, and Wieland had no shipments of subject merchandise from Germany.¹²

¹⁰ See Antidumping and Countervailing Duty Proceedings: Assessment of Antidumping Duties, 68 FR 23954 (May 6, 2003) (Assessment Policy Notice).

¹¹ See Antidumping Duty Order: Brass Sheet and Strip From the Federal Republic of Germany, 52 FR 6997 (March 6, 1987), as amended, Final Determination of Sales at Less Than Fair Value and Amendment to Antidumping Duty Order: Brass Sheet and Strip From Germany, 52 FR 35750 (April 8, 1987) (Order).

¹² See, e.g., Certain Frozen Warmwater Shrimp from India: Partial Rescission of Antidumping Duty Administrative Review, 73 FR 77610, 77612 (December 19, 2008).

Cash Deposit Requirements

The following cash deposit requirements will be effective upon publication of the notice of final results of administrative review for all shipments of subject merchandise entered, or withdrawn from warehouse, for consumption on or after the publication of the final results of this administrative review, as provided by section 751(a)(2) of the Act: (1) The cash deposit rate for respondents noted above will be the rate established in the final results of this administrative review; (2) for merchandise exported by manufacturers or exporters not covered in this administrative review but covered in a prior segment of the proceeding, the cash deposit rate will continue to be the company specific rate published for the most recently completed segment of this proceeding; (3) if the exporter is not a firm covered in this review, a prior review, or the original investigation, but the manufacturer is, the cash deposit rate will be the rate established for the most recently completed segment of this proceeding for the manufacturer of the subject merchandise; and (4) the cash deposit rate for all other manufacturers or exporters will continue to be 7.30 percent, the all-others rate determined in the less than fair value investigation. These cash deposit requirements, when imposed, shall remain in effect until further notice.

Notification to Importers Regarding the Reimbursement of Duties

This notice also serves as a final reminder to importers of their responsibility under 19 CFR 351.402(f)(2) to file a certificate regarding the reimbursement of antidumping and/or countervailing duties prior to liquidation of the relevant entries during the POR. Failure to comply with this requirement could result in the Department's presumption that reimbursement of antidumping and/or countervailing duties occurred and the subsequent assessment of doubled antidumping duties.

Administrative Protective Order

This notice also serves as a reminder to parties subject to administrative protective orders (APO) of their responsibility concerning the return or destruction of proprietary information disclosed under APO in accordance with 19 CFR 351.305(a)(3), which continues to govern business proprietary information in this segment of the proceeding. Timely written notification of the return/destruction of APO materials, or conversion to judicial protective order, is hereby requested. Failure to comply with the regulations and the terms of an APO is a sanctionable violation.

We are issuing and publishing these results in accordance with sections 751(a)(1) and 777(i)(1) of the Act.

Dated: October 5, 2015.
Paul Piquado,
Assistant Secretary for Enforcement and Compliance.

Appendix

List of Topics Discussed in the Final Issues and Decision Memorandum

I. Summary

II. Background

III. Scope of the Order

IV. No Shipment Determination

V. List of Comments

Comment 1: Whether the Adverse Facts Available (AFA) Rate Is Probative for the POR

Comment 2: Whether the AFA Rate Is Aberrant

Comment 3: Whether the AFA Rate Is Incorrect Based on Verification in the Investigation

Comment 4: Whether the AFA Rate Is Supported by the Department's Rationale

Comment 5: Whether the Department Provided Documentation to KL USA To Support the AFA Rate

VI. Analysis of Comments

VII. Recommendation

[FR Doc. 2015-25988 Filed 10-9-15; 8:45 am]

BILLING CODE 3510-DS-P